DEPARTMENT OF TRANSPORTATION

Pipeline and Hazardous Materials Safety Administration

[Docket No. PHMSA-2008-0257]

Pipeline Safety: Request for Special Permit; Texas Eastern Transmission, L.P.

AGENCY: Pipeline and Hazardous Materials Safety Administration (PHMSA); DOT.

ACTION: Notice.

SUMMARY: PHMSA is publishing this notice to solicit public comments on a request from Texas Eastern Transmission, L.P. (TETLP) to renew a previously issued special permit. The special permit renewal request is seeking continued relief from compliance with certain requirements in the Federal pipeline safety regulations. At the conclusion of the 30-day comment period, PHMSA will evaluate the comments and the technical analysis of the renewal request, to determine whether to grant or deny the renewal.

DATES: Submit any comments regarding this special permit request by June 18, 2020.

ADDRESSES: Comments should reference the docket number for this special permit request and may be submitted in the following ways:

• E-Gov Website: http://www.Regulations.gov. This site allows the public to enter comments on any Federal Register notice issued by any agency.

• Fax: 1-202-493-2251.

• Mail: Docket Management System: U.S. Department of Transportation, Docket Operations, M-30, West Building Ground Floor, Room W12-140, 1200 New Jersey Avenue SE, Washington, DC 20590.

• Hand Delivery: Docket Management System: U.S. Department of Transportation, Docket Operations, M-30, West Building Ground Floor, Room W12-140, 1200 New Jersey Avenue SE, Washington, DC 20590, between 9:00 a.m. and 5:00 p.m., Monday through Friday, except Federal holidays.

Instructions: You should identify the docket number for the special permit request you are commenting on at the beginning of your comments. If you submit your comments by mail, please submit two (2) copies. To receive confirmation that PHMSA has received your comments, please include a self-addressed stamped postcard. Internet users may submit comments at http://www.Regulations.gov.

Note: There is a privacy statement published on http://www.Regulations.gov. Comments, including any personal information provided, are posted without changes or edits to http://www.Regulations.gov.

Confidential Business Information: Confidential Business Information (CBI) is commercial or financial information that is both customarily and actually treated as private by its owner. Under the Freedom of Information Act (FOIA) (5 U.S.C. 552), CBI is exempt from public disclosure. If your comments responsive to this notice contain commercial or financial information that is customarily treated as private, that you actually treat as private, and that is relevant or responsive to this notice, it is important that you clearly designate the submitted comments as CBI. Pursuant to 49 Code of Federal Regulations (CFR) § 190.343, you may ask PHMSA to give confidential treatment to information you give to the agency by taking the following steps: (1) Mark each page of the original document submission containing CBI as “Confidential”; (2) send PHMSA, along with the original document, a second copy of the original document with the CBI deleted; and (3) explain why the information you are submitting is CBI. Unless you are notified otherwise, PHMSA will treat such marked submissions as confidential under the FOIA, and they will not be placed in the public docket of this notice. Submissions containing CBI should be sent to Kay McIver, DOT, PHMSA-PHP-80, 1200 New Jersey Avenue SE, Washington, DC 20590-0001. Any commentary PHMSA receives that is not specifically designated as CBI will be placed in the public docket for this matter.

FOR FURTHER INFORMATION CONTACT:

General: Ms. Kay McIver by telephone at 202-366-0113, or by email at kay.mciver@dot.gov.

Technical: Mr. Joshua Johnson by telephone at 816-329-3825, or by email at joshua.johnson@dot.gov.

SUPPLEMENTARY INFORMATION: PHMSA received a special permit renewal request from TETLP, owned by Enbridge, Inc., to continue its pipeline operation as defined in the special permit renewal issued on February 11, 2016. The present special permit term ends October 28, 2020, and the original special permit was issued on October 28, 2010. TETLP's special permit renewal request of March 11, 2020, seeks to waive compliance from requirements of 49 CFR 192.112(a)(1), 192.112(c)(1), 192.112(c)(2), 192.112(d)(2)(i), 192.112(f)(1), 192.620(d)(5)(iii), and 192.620(d)(11)(ii)(A). This special permit renewal allows TETLP to continue its operation of the 36-inch diameter pipeline system, as defined in the original special permit issued on October 28, 2010, and renewed on February 11, 2016, up to a maximum allowable operating pressure (MAOP) of 1,112 pounds per square inch gauge. This MAOP is based upon a pipeline design factor for the pipe steel of 80 percent of the specified minimum yield strength (SMYS) in Class 1 locations, 67 percent of the SMYS in Class 2 locations, and 56 percent of the SMYS in Class 3 locations of the 36-inch diameter pipeline system. The special permit applies to 267.48 miles of 36-inch diameter pipeline system which consists of 97.94 miles of 36-inch Line 1 and 169.54 miles of 36-inch Line 2. The special permit segments are located in Fayette, Somerset, Bedford, Fulton, Franklin, Adams, York, and Lancaster Counties in Pennsylvania.

The special permit renewal request, existing special permit with conditions, and environmental assessment for the TETLP 36-inch diameter pipeline system are available for review and public comments in the Docket No. PHMSA-2008-0257. We invite interested persons to review and submit comments on the special permit renewal request in the docket. Please include any comments on potential safety and environmental impacts that may result if the special permit renewal is granted. Comments may include relevant data.

Before issuing a decision on the special permit renewal request, PHMSA will evaluate all comments received on or before the comment closing date. Comments received after the closing date will be evaluated, if it is possible to do so without incurring additional expense or delay. PHMSA will consider each relevant comment it receives in making its decision to grant or deny this special permit renewal request.

Issued in Washington, DC, under authority delegated in 49 CFR 1.97.
Alan K. Mayberry,
Associate Administrator for Pipeline Safety.

[FR Doc. 2020-10673 Filed 5-18-20; 8:45 am]

BILLING CODE 4910-60-P